DEPARTMENT OF COMMERCE

National Oceanic and Atmospheric Administration

50 CFR Part 648

[Docket No. 980414095-8240-02; I.D. 051200A]

Fisheries of the Northeastern United States; Dealer Reporting Requirements

AGENCY: National Marine Fisheries Service (NMFS), National Oceanic and Atmospheric Administration (NOAA), Commerce.

ACTION: Notification of a 2-month termination of the deferral of Interactive Voice Response (IVR) System reporting requirements for Atlantic cod purchases.

SUMMARY: NMFS announces that it is terminating the current deferral of IVR reporting requirements of Atlantic cod for a 2-month period, beginning May 28, 2000, and ending July 31, 2000. One of the management measures for Atlantic cod includes two conditional 1-month closures in the Gulf of Maine (GOM). If the preliminary landings of GOM cod from May 1, 2000, through July 31, 2000, indicate that the trigger of 1.67 million lb (759 mt) has been reached, the closures would become effective. This deferral will enable NMFS to determine if the trigger has been reached. Any dealer issued a Northeast (NE) multispecies permit must submit, through the IVR system, a weekly summary of Atlantic cod purchased from May 28, 2000, through July 31, 2000.

DATES: The 2-month termination of the deferral of the IVR system reporting requirements is effective May 28, 2000, through July 31, 2000. Effective August 1, 2000, the IVR system reporting requirement for Atlantic cod is deferred until notification terminating the deferral for Atlantic cod is published in the Federal Register.

FOR FURTHER INFORMATION CONTACT: Sandra Arvilla, (978) 281-9255 or Gregory Power, (978) 281-9304.

SUPPLEMENTARY INFORMATION: To effectively monitor landings of quota-managed species on a timely basis, NMFS issued a final rule (63 FR 52639, October 1, 1998) requiring federally permitted dealers to submit a weekly summary of purchases of quota-managed species through the IVR system within 3 days of the end of the reporting week. To minimize the burden of dealer reporting requirements, the regulations implementing the use of an IVR system authorize (§ 648.7(a)(ii)) the Administrator, Northeast Region, NMFS (RA), to defer the IVR reporting requirements for any species if landings are not expected to reach levels that would cause the applicable target exploitation rate specified in the applicable Fishery Management Plan (FMP) for that species to be achieved, resulting in specific management changes. NMFS announced in the Federal Register (63 FR 57931, October 29, 1998) the deferral of IVR reporting requirements for Atlantic mackerel, butterfish, and regulated NE multispecies, which included Atlantic cod.

To address the overfishing of Gulf of Maine and Georges Bank cod, NMFS recently published a final rule implementing Framework Adjustment 33 to the NE Multispecies FMP (65 FR 21658, April 24, 2000). One of the management measures under Framework Adjustment 33 is the conditional 1-month closure of two areas, which would become effective if preliminary landings from May 1, 2000, through July 31, 2000, indicate that more than 1.67 million lb (759 mt) of GOM cod have been landed. As specified in § 648.81(o), if the RA determines that preliminary landings through July 31, 2000, indicate that more than 1.67 million lb (759 mt) has been landed as of, or before, July 31, 2000, NMFS shall implement the closures. The trigger (1.67 million lb (759 mt)) is established at a level that is 50 percent of the total allowable catch (TAC) level between the TACs associated with F0.1 and Fmax.

In order to monitor effectively Atlantic cod landings relative to the trigger of 1.67 million lb (759 mt), NMFS is requiring any dealer issued a NE multispecies permit to submit, through the IVR system, a weekly summary of Atlantic cod purchases made from May 28, 2000, through July 31, 2000. IVR reports must be submitted within 3 days of the end of the reporting week. Purchases of Atlantic cod transacted July 30-31, 2000, must be reported via the IVR system by midnight, Eastern time, Tuesday, August 8, 2000. Following submission of IVR reports for Atlantic cod purchases occurring from May 28, 2000, through July 31, 2000, the IVR system reporting requirements for Atlantic cod will again be deferred until notification terminating the deferral is published in the Federal Register.

Dealers must continue to report through the IVR system, their purchases of the species specified in § 648.7(a) for which IVR reporting requirements have not been deferred. These species are summer flounder, scup, black sea bass, Illex squid and Loligo squid. If no purchases of any quota-managed species are made during the reporting week, a negative report, so stating, must be submitted.

As specified in § 648.7(a)(1), dealers must continue to report purchases of all species, including those species for which IVR reporting has been deferred, on the detailed written reports.

Classification

This action is authorized by 50 CFR part 648 and is exempt from review under E.O. 12866.

Authority: 16 U.S.C. 1801 et seq.

Dated: May 15, 2000.
Bruce Morehead,
Acting Director, Office of Sustainable Fisheries, National Marine Fisheries Service.

[FR Doc. 00-12668 Filed 5-18-00; 8:45 am]

BILLING CODE 3510-22-F